DEPARTMENT OF AGRICULTURE

Submission for OMB Review; Comment Request

March 24, 2021.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 28, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential

persons who are to respond to the collection of information that such persons are not required to respond to the collection of information unless it displays a currently valid OMB control number.

Office of the Chief Economist

Title: Generic Clearance of Multiple Crop and Pesticide Use.

OMB Control Number: 0503-NEW.

Summary of Collection: The primary purpose of this information will be to support the Office of Pest Management Policy (OPMP) understanding of agricultural practices pertaining to pest management. OPMP is undertaking this effort to satisfy legislative requirements outlined in Title X, Section 10109 of the 2018 Farm Bill, which mandates that The Secretary of Agriculture, acting through the Office of the Chief Economist's Director of OPMP, collect this information.

Pest management information is critical to supporting a key responsibility of OPMP, i.e., to “consult with agricultural producers that may be affected by pest management or pesticide-related activities or actions of the Department or other agencies,” as outlined in the Agricultural Research, Extension, and Education Reform Act of 1998.

Need and Use of the Information: This request for approval will improve OPMP's ability to better understand the utilization of pest management tools by agricultural producers via input from pest management advisors—including Extension experts and crop consultants, who in addition to being advisors are often agricultural producers themselves. Data collected are intended to capture agricultural practices and needs to support federal activities that pertain to pest management, which are typically time-sensitive and necessitate the need for rapid data collection. OPMP will use several methods to collect information under this generic collection. The methods will be web-based surveys, telephone surveys, interviews, and/or focus groups may be needed under certain circumstances.

If the information is not collected, it would deny the agricultural industry the ability to afford important and insightful input towards a better understanding of pest management practices that may be unknown by the federal government, this consequence is especially valid for underrepresented specialty crops.

Description of Respondents: Individuals or households; Business or other for-profit; Not-for-profit institutions; Farms; Federal Government; State, Local or Tribal Government.

Number of Respondents: 12,777.

Frequency of Responses: Reporting: On occasion.

Total Burden Hours: 24,949.

Ruth Brown,
Departmental Information Collection Clearance Officer.

[FR Doc. 2021-06400 Filed 3-26-21; 8:45 am]

BILLING CODE 3410-GL-P